DEPARTMENT OF THE INTERIOR

Bureau of Land Management

[ID-074-3130-HN]

Amended Notice of Intent to Prepare a Land Use Plan Amendment and Amended Notice of Exchange Proposal

AGENCY: Bureau of Land Management, Interior.

ACTION: Amended notice of intent to prepare a land use plan amendment and amended notice of exchange proposal.

SUMMARY: This notice amends a previously published notice which appeared in the Federal Register on August 18, 1998 (63 FR 44270), Notice of Intent to Prepare a Land Use Plan Amendment and Notice of Exchange Proposal. This amendment will adjust the amount of land proposed for exchange between BLM and Hartman Ranch LLC, Jerry R. Taft Family Limited Partnership, and John Taft Corporation.

DATES: In order to be considered in the preparation of the environmental assessment for the proposed land exchange, comments must be received on or before May 29, 2001.

FOR FURTHER INFORMATION CONTACT: Additional information may be obtained by writing the BLM Idaho Falls Field Office, 1405 Hollipark Drive, Idaho Falls, ID 83401.

SUPPLEMENTARY INFORMATION: On August 12th, 19th, 26th, and September 2nd, 1998, a notice was published in The News Examiner, Montpelier, Idaho announcing the Bureau of Land Management's (BLM) intent to amend the BLM's Pocatello Resource Management Plan. The plan amendment is required in order for BLM to consider a land exchange proposal submitted by Hartman Ranch LLC, Jerry R. Taft Family Limited Partnership, and John Taft Corporation. The lands proposed for exchange as listed in the original publication notice are as follows:

Offered Private Land

T. 15 N., R. 43 E., Boise Meridian

Portion of sections 18 & 19 (metes & bounds description)

Selected Public Land

T. 9 S., R. 46 E., Boise Meridian

Sec. 3, SW¼NW¼, W½SW¼;

Sec. 4, S½;

Sec. 9, N½N½, SE¼NE¼, NE¼SE¼, S½SE¼;

Sec. 10, NW¼NW¼, NE¼SE¼, S½NE¼;

Sec. 22, E½NE¼, NE¼SE¼;

The purpose of this notice is to inform the public that the original legal notice is hereby amended to include an additional 80 acres of selected public land. The additional 80 acres is located in the vicinity of Crow Creek. This public land is adjoined on three sides by land in private ownership and on the fourth side by public land already included in the land exchange proposal. The additional acreage is legally described as follows:

Additional Selected Public Land

T. 9 S., R. 46 E., Boise Meridian

Sec. 15, E½SE¼:

All other information contained in the original publication notice remains the same. The Offered and Selected land acreage proposed for exchange may be adjusted to equalize values as determined by a Real Estate Appraisal.

Comments regarding the amended selected land acreage should be sent to Joe Kraayenbrink, Field Manager, Idaho Falls Field Office, 1405 Hollipark Drive, Idaho Falls, Idaho 83401.

Dated: March 27, 2001.
James E. May,
District Manager.

[FR Doc. 01-8967 Filed 4-10-01; 8:45 am]

BILLING CODE 4310-GC-P